NATIONAL AERONAUTICS AND SPACE ADMINISTRATION

[Notice: 16-004]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: Consideration will be given to all comments received within 30 days from the date of this publication.

ADDRESSES: Interested persons are invited to submit written comments regarding the proposed information collection to the Office of Information and Regulatory Affairs, Office of Management and Budget, 725 7th Street NW., Washington, DC 20543. Attention: Desk Officer for NASA.

FOR FURTHER INFORMATION CONTACT: Requests for additional information or copies of the information collection instruments and instructions should be directed to Ms. Frances Teel, NASA PRA Clearance Officer, NASA Headquarters, 300 E Street SW., Mail Code JF0000, Washington, DC 20546 or frances.c.teel@nasa.gov.

SUPPLEMENTARY INFORMATION:

I. Abstract

This is a request to reinstate OMB control number 2700-0092, with changes. This collection is required to ensure proper accounting of Federal funds and property provided under finanical assistance awards (grants and cooperative agreements). Reporting and recordkeeping are prescribed at 2 CFR 1800 for awards issued to non-profits, institutions of higher education, government, and commercial firms when cost sharing is not required and at 14 CFR part 1274 for awards issued to commercial firms when cost sharing is required. This information collection was formerly titled Cooperative Agreements with Commercial Firms. Comments submitted in response to this notice will be summarized and included in the request for OMB approval of this information collection. They will also become a matter of public record. The basis for calculating the estimated burden remain the same as reported in the November 30, 2015 Federal Register Notice (80 FR 74812); however, corrections were made to the total estimated hours and costs.

II. Method of Collection

NASA collects approximately 90% of this information via electronic media, which is the preferred manner. However, certain information may also be collected via mail or fax.

III. Data

Title: Financial Assistance Awards/Grants and Cooperative Agreements.

OMB Control Number: 2700-0092.

Type of Review: Reinstatement with Change of a Previously Approved Information Collection.

Affected Public: Non-profits, institutions of higher educations, government, and commercial firms.

Estimated Number of Respondents: 13,600.

Estimated Total Annual Burden Hours: 717,281.

Estimated Total Annual Cost: $23,950,013.

IV. Request for Comments

Comments are invited on (1) whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2016-01853 Filed 2-1-16; 8:45 am]

BILLING CODE 7510-13-P